DEPARTMENT OF TRANSPORTATION

Pipeline and Hazardous Materials Safety Administration

Hazardous Materials: Notice of Actions on Special Permits

AGENCY: Pipeline and Hazardous Materials Safety Administration (PHMSA), DOT.

ACTION: Notice of actions on special permit applications.

SUMMARY: In accordance with the procedures governing the application for, and the processing of, special permits from the Department of Transportation's Hazardous Material Regulations, notice is hereby given that the Office of Hazardous Materials Safety has granted or denied the application described herein.

DATES: Comments must be received on or before January 5, 2026.

ADDRESSES: Record Center, Pipeline and Hazardous Materials Safety Administration U.S. Department of Transportation Washington, DC 20590.

Comments should refer to the application number and be submitted in triplicate. If confirmation of receipt of comments is desired, include a self-addressed stamped postcard showing the special permit number.

FOR FURTHER INFORMATION CONTACT: Donald Burger, Chief, Office of Hazardous Materials Safety General Approvals and Permits Branch, Pipeline and Hazardous Materials Safety Administration, U.S. Department of Transportation, East Building, PHH-13, 1200 New Jersey Avenue Southeast, Washington, DC 20590-0001, (202) 366-4535.

SUPPLEMENTARY INFORMATION: Copies of the applications are available for inspection in the Records Center, East Building, PHH-13, 1200 New Jersey Avenue Southeast, Washington DC.

This notice of receipt of applications for special permit is published in accordance with part 107 of the Federal hazardous materials transportation law (49 U.S.C. 5117(b); 49 CFR 1.53(b)).

Issued in Washington, DC, on December 1, 2025.
Donald P. Burger,
Chief, General Approvals and Permits Branch.

Special Permits Data—Granted
Application No. | Applicant | Regulation(s) affected | Nature of the special permits thereof
11725-M | Thales Alenia Space Italia Spa | 173.301(f), 173.302a(a)(1), 173.304a(a)(2) | To modify the special permit to authorize specific prototype lithium-ion batteries contained in equipment in excess of 35 kg aboard cargo-only aircraft.
20511-M | ARMOTECH s.r.o | 173.302(a)(1), 173.302(f)(1), 173.302(f)(2) | To authorize two additional compressed gases to be transported in cylinders manufactured under the provisions of the special permit.
21729-M | SodaStream USA. Inc | 172.315(a)(2), 173.306(a)(1) | To modify the special permit to authorize a reduced size limited quantity marking.
22025-N | Bhiwadi Cylinders Private Limited | 173.304(d), 178.33d-2 | To authorize the manufacture, mark, sale and use of non-DOT specification inner receptacles like 2Q Variation 1 inner receptacles but with a large diameter and increased filling pressure.
22048-N | EnergySolutions, LLC | 173.411(b)(2), 173.427(a)(1), 173.465(c), 173.465(d) | To authorize the transportation in commerce of radioactive materials that exceed the external dose rate and have not passed the drop and stack test requirements for Type A packagings.
22051-N | SciSafe Inc | 173.199(a)(4) | To authorize the transportation in commerce of Category B biological substances in freezers that are not capable of passing the specified drop test specified in § 173.199(a)(4).
22066-N | Entegris, Inc | 173.3(d)(2)(i) | To authorize the transportation of cylinders containing hazardous materials that are damaged or leaking and are overpacked in a salvage cylinder designed, constructed and marked in accordance with a technical code approved by German Transport Competent Authority.
22090-N | K2 Space Corporation | 173.301(f), 173.302a(a)(1) | To authorize the transportation in commerce of non-DOT specification cylinders containing compressed krypton (UN1056) and incorporated into a spacecraft or components of spacecraft.
22105-N | Veolia ES Technical Solutions, LLC | 173.185(f)(1), 173.185(f)(2) | To authorize the transportation in commerce of damaged, defective, or recalled lithium-ion batteries for the purpose of disposal.
22112-N | Sandery Polymers Corp | 172.300, 172.400, 173.240 | To authorize the one-time, one-way transportation in commerce of antimony trioxide in non-UN Standard packagings that are not marked or labeled.
22120-N | Tesla, Inc | 173.185(f), 173.185(f)(1), 173.185(f)(2), 173.185(f)(3) | To authorize the transportation in commerce of damaged, defective or recalled lithium-ion batteries in packagings that do not meet the requirements of the HMR.
22121-N | Space Exploration Technologies Corp | 173.56(e)(3), 173.56(e)(4) | To authorize SpaceX to use a contract carrier to transport unapproved explosives for developmental testing.
SPECIAL PERMITS DATA—Denied
SPECIAL PERMITS DATA—Withdrawn
22107-N | Allendale, LLC | 173.185(a)(1) | To authorize the transportation of prototype lithium-ion batteries by cargo-only aircraft.
22108-N | D-Orbit US LLC | 173.301(a)(9) | To authorize the transportation of non-DOT specification pressure vessels as part of a spacecraft.
22122-N | Honda Racing Corporation USA | 173.185(e) | To authorize the transportation of prototype and low production lithium-ion batteries by cargo-only aircraft.

[FR Doc. 2025-22033 Filed 12-4-25; 8:45 am]

BILLING CODE P